DEPARTMENT OF COMMERCE

Bureau of the Census

[Docket Number 070111009-7011-01]

Census County Division (CCD) and Equivalent Entities Program for the 2010 Census—Proposed Change and Proposed Criteria

AGENCY: Bureau of the Census, Commerce.

ACTION: Notice of proposed program revisions and request for comments.

SUMMARY: CCDs and equivalent entities are statistical geographic entities established cooperatively by the Bureau of the Census (Census Bureau) and officials of state and local governments in 22 states ¹ where minor civil divisions (MCDs) either do not exist or are unsatisfactory for reporting decennial census data. The primary goal of the CCD program has been to establish and maintain a set of subcounty ² units that have stable boundaries and recognizable names.

¹ In Alaska, census subareas are equivalents of CCDs. For the purposes of this notice, the term “CCD” will also refer to census subareas in Alaska.

² For Census Bureau purposes, the term “county ” includes parishes in Louisiana; boroughs and census areas in Alaska; independent cities in Maryland, Missouri, Nevada, and Virginia; districts in American Samoa and the U.S. Virgin Islands; municipalities in the Commonwealth of the Northern Mariana Islands; municipios in Puerto Rico; and the areas constituting the District of Columbia and Guam. This notice will refer to all of these entities collectively as “counties.”

The Census Bureau is publishing this notice in the Federal Register to request comments from the public and other government agencies. The Census Bureau will respond to the comments received as part of the publication of final criteria in the Federal Register. After the final criteria are published in the Federal Register, the Census Bureau will offer designated governments or organizations an opportunity to review and, if necessary, suggest updates to the boundaries and attributes of the CCDs in their geographic area under the Participant Statistical Areas Program (PSAP). In addition to CCDs, the program also encompasses the review and update of census tracts, block groups, and census designated places.

DATES: Written comments must be submitted on or before July 5, 2007.

ADDRESSES: Please direct all written comments on this proposed program to the Director, U.S. Census Bureau, Room 8H001, mail stop 0100, Washington, DC 20233-0001.

FOR FURTHER INFORMATION CONTACT: Requests for additional information on this proposed program should be directed to Michael Ratcliffe, Chief, Geographic Standards and Criteria Branch, Geography Division, U.S. Census Bureau, via e-mail at geo.psap.list@census.gov or telephone at 301-763-3056.

SUPPLEMENTARY INFORMATION:

I. History

When CCDs were introduced prior to the 1950 Census, few alternatives were available for the provision of statistical data related to relatively stable, subcounty geographic units. Census tracts were defined in only a subset of metropolitan area counties; MCDs existed in all counties, but in some states MCD boundaries changed frequently enough that they were not useful for comparing statistical data from one decade to another.

For much of the period from the 1950 Census through the 1980 Census, county subdivisions (MCDs and CCDs) provided the only subcounty unit of geography at which data users could obtain statistical data for complete coverage of counties nationwide. The introduction of block-numbering areas (BNAs) in counties without census tracts for the 1990 Census offered an alternate subcounty entity for which data could be tabulated. For Census 2000, the Census Bureau introduced census tracts nationwide (in many counties BNAs were simply relabeled as “census tracts”) and the greater dissemination of, and ability to analyze, data at the census tract-level made CCDs less necessary as statistical reporting units.

II. General Principles and Guidelines for CCDs for the 2010 Census

A. General Principles and Guidelines

1. The primary goal of the CCD program has been to establish and maintain a set of subcounty units that have stable boundaries and recognizable names. The boundaries of CCDs usually coincide with visible features or stable, significant legal boundaries, such as the boundary of an American Indian reservation, federally-managed land, or conjoint incorporated places, and have no legal status; there are no officials elected to serve traditional local governmental functions.

2. A CCD usually represents a single contiguous area consisting of one or more communities, trading centers, or, in some instances, major land uses that are relatively compact in shape.

3. The area of a CCD has a relationship to the existing census tracts, usually consisting of one or more contiguous census tracts or having two or more CCDs nesting within a single census tract. The boundaries of CCDs generally align with census tract boundaries. Note that a county with a population less than the optimum population for a census tract (less than 4,000 people) may contain more CCDs than census tracts. For example, McCone County, Montana, which has a 2005 estimated population of 1,805, contains only one census tract, which covers the full extent of the county, but is divided into two CCDs.

4. Since the 1950s, the Census Bureau has worked with state and local officials to replace MCDs with CCDs for the collection, presentation, and analysis of census statistics, particularly in states in which MCDs do not provide governmental services and functions, and in which MCD boundaries tend to change between decennial censuses. To date, 22 states have shifted to CCDs: Alabama, Alaska, Arizona, California, Colorado, Delaware, Florida, Georgia, Hawaii, Idaho, Kentucky, Montana, Nevada, New Mexico, Oklahoma, Oregon, South Carolina, Tennessee, Texas, Utah, Washington, and Wyoming.

B. Proposed Changes to the CCD Program

The Census Bureau has noted that data users are not requesting or using data for CCDs to the extent they did in the past, preferring instead to analyze and aggregate data by census tract and block group. Some data users may view the introduction of CCDs in hierarchical tabulations as hampering data extraction. Therefore, if interest no longer exists and data are not used, or the geography introduces unnecessary complexity in the hierarchy, the Census Bureau will consider eliminating CCDs for the 2010 Census.

Therefore, the Census Bureau is interested in ascertaining whether data users still find CCDs to be a useful geographic entity for reporting and analyzing statistical data, and if so, specific examples of CCD usage. In addition, and related to this request for information, the Census Bureau proposes the following options for CCDs:

1. Eliminate the CCD concept; do not replace with another type of subcounty geographic unit. If this proposal is adopted, the Census Bureau will not replace the CCD concept with another type of county subdivision entity (i.e., MCDs or some other type of legal, administrative, or statistical area). As a result, there would be no geographic entity defined at the county subdivision level of the census geographic hierarchy for those areas where CCDs existed previously.

2. Retain the CCD concept. The Census Bureau will retain the CCD concept if data user comments indicate that CCDs continue to be useful geographic units for reporting statistical data, or if comments indicate that creation of a gap in the census geographic hierarchy is not favorable (see option #1 above). If the CCD concept is retained, the Census Bureau will strongly encourage partners in the program to maintain CCD boundaries as defined for Census 2000, to the extent possible, in order to preserve comparability of data from one decade to another.

The Census Bureau may consider other proposals, for example, to eliminate CCDs on a state-by-state basis.

C. CCD Criteria for the 2010 Census

The criteria proposed herein apply to the United States, ³ including American Indian reservations and off-reservation trust lands, Puerto Rico, and the Island. Areas. ⁴ The Census Bureau may modify and, if necessary, reject any proposals for census tracts that do not meet the established criteria. In addition, the Census Bureau reserves the right to modify the boundaries and attributes of CCDs as needed to maintain geographic relationships before the final tabulation geography is set for the 2010 Census.

³ For Census Bureau purposes, the United States includes the 50 states and the District of Columbia.

⁴ For Census Bureau purposes, the Island Areas include the U.S. Virgin Islands, American Samoa, the Commonwealth of the Northern Mariana Islands, and Guam.

Should CCDs be retained for the 2010 Census, the Census Bureau will require that CCDs (1) have community orientation, (2) have visible and/or stable boundaries, (3) conform to census tract boundaries, and (4) have recognizable names.

1. Community Orientation

Each CCD should focus on one or more communities or places and encompass in some fashion the additional surrounding territory that is served by these. The definition of community should take into account factors, such as production, marketing, consumption, and the integrating factor of local institutions.

The community in which a CCD is centered usually is an incorporated place or an unincorporated community, which might be identified as a census designated place. In some cases, the CCD may center on a major area of significantly different land use or ownership, such as a large military base or American Indian reservation. A CCD should always comprise a reasonably compact, continuous land area.

2. Visible, Stable Boundaries

To make the location of CCD boundaries less ambiguous, CCD boundaries should follow, wherever possible, visible and identifiable features. The use of visible features makes it easier to locate and identify CCD boundaries over time, as the locations of many visible features in the landscape tend to change infrequently, making data collection easier and more reliable while reducing the possibility for data allocation errors. The Census Bureau also permits the use of state, county, and census tract boundaries, defined federally-recognized American Indian reservations, and the boundaries of federally, state, or locally managed land.

The following features are acceptable:

a. County boundaries (always a CCD boundary);

b. Census tract boundaries, which usually follow visible, perennial, natural, and cultural features, such as roads, rivers, canals, railroads, or above-ground high-tension power lines;

c. Legally-defined, federally-recognized American Indian reservation boundaries;

d. The boundaries of federally, state, or locally managed land, such as National Parks, National Monuments, National Forests, other types of large parks or forests, airports, marine ports, penitentiaries/prisons, military installations, or other facilities; and

e. Conjoint city limits (in certain situations).

f. When the above types of features are not available for use as CCD boundaries, the Census Bureau may, at its discretion, approve other nonstandard, visible features, such as ridge lines, above-ground pipelines, streams, or fence lines. The Census Bureau may also accept, on a case-by-case basis, the boundaries of selected nonstandard and potentially nonvisible features, such as the boundaries of cemeteries, golf courses, glaciers, or the straight-line extensions of visible features and other lines-of-sight.

3. Census Tract Boundaries, CCD Population Size

Whenever possible, a CCD should encompass one or more contiguous census tracts. Therefore, CCD boundaries should be consistent with census tract boundaries. Population size is not as an important consideration with CCDs as it is with census tracts. Historically, CCDs have ranged from a few hundred people (in selected situations) to more than one million. However, data quality and availability may be factors that local governments and planners should consider in defining geographic areas. As a general rule, estimates of demographic characteristics of small areas from the American Community Survey and the Puerto Rico Community Survey will be subject to higher variances than comparable estimates for areas with larger populations. In addition, the Census Bureau's disclosure rules may have the effect of restricting the availability and amount of data for areas with small populations. Therefore, CCDs that are new for the 2010 Census must have a population of at least 1,200 people, the minimum for a census tract. Adhering to this minimum threshold will improve data reliability and minimize the application of disclosure avoidance methodologies (e.g., data suppression or data swapping) to tabulated data.

4. Name Identification

A CCD usually should be named after the largest population center or place within it (e.g., Taos, Chimayo, or Ohkay Owingeh, NM). Sometimes a CCD name may represent the two largest centers (e.g., Mount Pleasant-Moroni, UT). In some situations, a CCD may be named after a prominent physical feature (e.g., Castle Rock, CO, and Mount Rainier, WA) or a distinctive region within the county (e.g., Death Valley, CA; Everglades and Lower Keys, FL; and Tellico Plains, TN). In other cases, a CCD name may consist of the county name and a compass direction to indicate the portion of the county in the CCD, or a place name and a compass direction to give the CCD location relative to the place. The directional indicator usually precedes a county name (e.g., Northeast Cobb, GA). If a place name is used, the directional indicator follows it (e.g., Del Rio Northwest, TX). In all cases, the objective is to clearly identify the extent of the CCD by means of an area name since CCD names always should be meaningful to data users. Any name used as a CCD name must also be recognized by the Board on Geographic Names for federal use and appear in the Geographic Names Information System maintained by the U.S. Geological Survey. This includes any individual names combined to make a hyphenated CCD name.

III. Definitions of Key Terms

American Indian reservation—A federally-recognized American Indian land area with boundaries established by final treaty, statute, executive order, and/or court order, and over which a federally-recognized American Indian tribal government has governmental authority. Along with reservations, designations such as colonies, communities, pueblos, rancherias, and reserves apply to American Indian reservations.

Block Group—A statistical subdivision of a census tract consisting of all census blocks whose numbers begin with the same digit in a census tract.

Census block—A geographic area bounded by visible and/or invisible features in the Census Bureau's Topographically Integrated Geographic Encoding and Referencing system, and shown on maps prepared by the Census Bureau. A block is the smallest geographic entity for which the Census Bureau tabulates decennial census data.

Census designated place—A statistical geographic entity with a concentration of population, housing, and commercial structures that is identifiable by name, but is not within an incorporated place.

Census tract—A small, relatively permanent statistical geographic division of a county defined for the tabulation and publication of Census Bureau data. The primary goal of the census tract program is to provide a set of nationally consistent small, statistical geographic units, with stable boundaries, that facilitate analysis of data across time.

Conjoint—A description of a boundary shared by two adjacent geographic areas.

Contiguous—A description of geographic areas that are adjacent to one another, sharing either a common boundary or point.

Federally managed land—Territory that is federally owned and administered by an agency of the U.S. federal government, such as the National Park Service, Bureau of Land Management, or Department of Defense.

Incorporated place—A type of governmental unit, incorporated under state law as a city, town (except in New England, New York, and Wisconsin), borough (except in Alaska and New York), or village, generally to provide specific governmental services for a concentration of people within legally prescribed boundaries.

Minor civil division—The primary governmental or administrative division of a county in 28 states, Puerto Rico, and the Island Areas having legal boundaries, names, and descriptions. MCDs represent many different types of legal entities with a wide variety of characteristics, powers, and functions depending on the state and type of MCD. In some states, some or all of the incorporated places also constitute MCDs.

Nonvisible feature—A map feature that is not visible on the ground, such as a city or county boundary through space, a property line running through space, a short line-of-sight extension of a road, or a point-to-point line of sight.

Visible feature—A map feature that can be seen on the ground, such as a road, railroad track, major above-ground transmission line or pipeline, stream, shoreline, fence, sharply defined mountain ridge, or cliff. A nonstandard visible feature is a feature that may not be clearly defined on the ground (such as a ridge), may be seasonal (such as an intermittent stream), or may be relatively impermanent (such as a fence). The Census Bureau generally requests verification that nonstandard features pose no problem in their location during fieldwork.

Executive Order 12866

This notice has been determined to be not significant under Executive Order 12866.

Paperwork Reduction Act

This program notice does not represent a collection of information subject to the requirements of the Paperwork Reduction Act, 44 U.S.C. Chapter 35.

Dated: April 3, 2007.
Charles Louis Kincannon,
Director, Bureau of the Census.

[FR Doc. E7-6464 Filed 4-5-07; 8:45 am]

BILLING CODE 3510-07-P